AMERICAN BATTLE MONUMENTS COMMISSION

SES Performance Review Board

AGENCY: American Battle Monuments Commission.

ACTION: Notice.

SUMMARY: Notice is hereby given of the appointment of members of the ABMC Performance Review Board.

FOR FURTHER INFORMATION CONTACT: Theodore Gloukhoff, Director of Personnel and Administration, American Battle Monuments Commission, Courthouse Plaza II, Suite 500, 2300 Clarendon Boulevard, Arlington, Virginia 22201-3367, Telephone Number: (703) 696-6908.

American Battle Monuments Commission SES Performance Review Board.

Mr. Wilbert Berrios, Director, Corporate Information, U.S. Army Corps of Engineers.

Mr. Michael Ensch, Chief, Operations and Regulatory CoP, U.S. Army Corps of Engineers.

Mr. Mohan Singh, Chief, Interagency & International Services Division, U.S. Army Corps of Engineers.

Theodore Gloukhoff,
Director, Personnel and Administration.

[FR Doc. E9-4310 Filed 2-27-09; 8:45 am]

BILLING CODE 6120-01-P